Title 3—

The President

Proclamation 9881 of May 9, 2019

Military Spouse Day, 2019

By the President of the United States of America

A Proclamation

Military spouses share an admirable legacy of unwavering devotion to their loved ones in uniform and to the cause of freedom. Wives and husbands stand faithfully beside their beloved service members and play a critical role in their ability to safeguard our country. They shoulder tremendous burdens and responsibilities and face demands that most families will never endure. Military spouses earn no rank or compensation, yet their contributions to our military might are invaluable. On Military Spouse Day, we honor our Nation's military spouses and express our deep appreciation for all that they do.

The nomadic nature of military life places tremendous pressure on military families. Frequent relocations, which require leaving behind the familiar—home, school, work, church, and friends—are commonplace. Military spouses nevertheless find ways to improve their communities, on and off the base, and to thrive in spite of the numerous hardships. Military spouses also demonstrate sacrificial love and provide essential support and encouragement to their service members during deployments. They comfort fearful and anxious children, balance work and school demands, and keep things going on the home front with uncommon grace and resourcefulness, despite the loneliness and anxiety that often accompany an extended absence.

Frequent relocation also imposes substantial economic costs on our military families. For example, it results in unemployment and underemployment of military spouses. My Administration, therefore, is committed to enhancing opportunities for our Nation's military spouses. Last year, I was pleased to sign an Executive Order requiring Federal agencies to promote the use of existing military spouse noncompetitive hiring authority to the greatest extent possible, providing significantly greater opportunity for military spouses to be considered for Government positions. The Department of Defense's Military Spouse Employment Partnership has brought together more than 390 companies and organizations committed to recruiting, hiring, promoting, and retaining military spouses. Since the initiative's inception in 2011, these devoted partners have hired more than 130,000 military spouses. Employers who hire these spouses benefit from the tremendous talent, breadth of experience, and determination these men and women have learned from navigating the demands of military life.

I encourage all who enjoy the blessings of freedom—preserved and defended by our Nation's military and their families—to find ways to support our incredible military spouses. I applaud local government officials who have helped advance workforce freedom and mobility for military families. I encourage States and occupational licensing boards to build on these efforts and do more to improve license portability, removing barriers to military spouses remaining in the workforce following a change in duty station. Community leaders can also raise awareness about programs like Military OneSource, a one-stop resource for information, support, and referrals on every aspect of military life. And in neighborhoods nationwide, families can reach out, in word and deed, to spouses who are working to meet the unique challenges of military life.

Military spouses are among our country's unsung heroes and are at the heart of our Armed Forces. They embody strength and resilience, and represent the best of American patriotism, courage, character, and pride. As a Nation, we must ensure our military spouses receive the unparalleled and unwavering support they deserve. On this Military Spouse Day, Melania and I salute the extraordinary women and men who serve as military spouses and offer our prayers, respect, and gratitude on behalf of a grateful Nation.

NOW, THEREFORE, I, DONALD J. TRUMP, President of the United States of America, by virtue of the authority vested in me by the Constitution and the laws of the United States, do hereby proclaim May 10, 2019, as Military Spouse Day. I call upon the people of the United States to honor military spouses with appropriate ceremonies and activities.

IN WITNESS WHEREOF, I have hereunto set my hand this ninth day of May, in the year of our Lord two thousand nineteen, and of the Independence of the United States of America the two hundred and forty-third.

[FR Doc. 2019-10130

Filed 5-13-19; 11:15 am]

Billing code 3295-F9-P